DEPARTMENT OF HOUSING AND URBAN DEVELOPMENT

[Docket No. FR-4674-FA-03]

Announcement of Funding Awards for Fiscal Year 2001 Tribal Colleges and Universities Program

AGENCY: Office of the Assistant Secretary for Policy Development and Research, HUD.

ACTION: Announcement of funding awards.

SUMMARY: In accordance with section 102(a)(4)(C) of the Department of Housing and Urban Development Reform Act of 1989, this document notifies the public of funding awards for Fiscal Year 2001 Tribal Colleges and Universities Program. The purpose of this document is to announce the names and addresses of the award winners and the amount of the awards which are to be used to enable tribal colleges and universities to build, expand, renovate, and equip their own facilities, especially those that are available to and used by the larger community.

FOR FURTHER INFORMATION CONTACT: Barbara Holland, Office of University Partnerships, U.S. Department of Housing and Urban Development, Room 8106, 451 Seventh Street, SW., Washington, DC 20410, telephone (202) 708-3061. To provide service for persons who are hearing- or speech-impaired, this number may be reached via TTY by Dialing the Federal Information Relay Service on 1-800-877-TTY, 1-800-877-8339, or 202-708-1455. (Telephone number, other than “800” TTY numbers are not toll free.)

SUPPLEMENTARY INFORMATION: The Tribal Colleges and Universities Program was enacted under section 107 of the CDBG appropriation for fiscal year 2001, as part of the “Veterans Administration, HUD and Independent Agencies Appropriations Act of 2001” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program enables tribal colleges and universities to build, expand, renovate, and equip their own facilities, especially those that are available to and used by the larger community. On May 11, 2001 (66 FR 24237), HUD published a Notice of Funding Availability (NOFA) announcing the availability of $3 million in Fiscal Year 2001 funds for the Tribal Colleges and Universities Program. The Department reviewed, evaluated and scored the applications received based on the criteria in the NOFA. As a result, HUD seven applications were funded. These grants, with their grant amounts are identified below.

The Catalog Federal Domestic Assistance number for this program is 14.519.

In accordance with section 102(a)(4)(C) of the Department of Housing and Urban Development Reform Act of 1989 (103 Stat. 1987, U.S.C. 3545), the Department is publishing details concerning the recipients of funding awards, as follows:

List of Awardees for Grant Assistance Under the FY 2001 Tribal Colleges and Universities Program Funding Competition, by Name and Address

1. College of Menominee Nation, Dr. Holly Youngbear-Tibbetts, College of Menominee Nation, P.O. Box 1179, Keshena, WI 54135. Grant: $400,000.

2. Fort Belknap College, Carol Falcon-Chandler, Fort Belknap College, P.O. Box 159, Harlem, MT 59526. Grant: $400,000.

3. Institute of American Indian Arts, Carol Guzman, Institute of American Indian Arts, 83 Avan Nu Po Road, P.O. Box 22370, Santa Fe, NM 85702. Grant: $400,000.

4. Oglala Lakota College, Thomas Shortbull, Oglala Lakota College, 490 Piya Wiconi Road, Kyle, SD 57752. Grant: $400,000.

5. Little Big Horn College, Avis Three Irons, Little Big Horn College, P.I. Box 370, One Forestry Lane, Crow Agency, MT 59022. Grant: $399,563.

6. Southwestern Indian Polytechnic Institute, Dr. Carolyn Elgin, Southwestern Polytechnic Institute, P.O. Box 10146, Albuquerque, NM 87184. Grant: $400,000.

7. Turtle Mountain College, Dr. Gerald Monette, Turtle Mountain College, P.O. Box 340, Belcourt, ND 58316. Grant: 399,440.

Dated: October 4, 2001.
Lawrence L. Thompson,
General Deputy Assistant Secretary for Policy Development and Research.

[FR Doc. 01-26335 Filed 10-18-01; 8:45 am]

BILLING CODE 4210-62-P